DEPARTMENT OF COMMERCE

Census Bureau

Proposed Information Collection; Comment Request; 2017 Census Test

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before October 7, 2016.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Robin A. Pennington, Census Bureau, HQ-2K281N, Washington, DC 20233; (301) 763-8132 (or via email at robin.a.pennington@census.gov).

SUPPLEMENTARY INFORMATION:

I. Abstract

During the years preceding the 2020 Census, the Census Bureau is pursuing its commitment to reducing the cost of conducting the census while maintaining the quality of the results. The 2017 Census Test will allow the Census Bureau to test operations and procedures that have not yet been tested during this inter-census phase but that take advantage of the research that has been done and the technological advances that have been made since the 2010 Census.

The testing will take place on two American Indian or Alaska Native reservations, as well as in a nationally representative sample of 80,000 housing units. The questionnaires will contain different versions of tribal enrollment questions, the testing of which is one of two primary objectives of this test. A set of census operations will occur on the reservations, including development and update of the address frame or list, self-response involving delivery of printed questionnaires and other materials through mail, and enumeration at the household when self-response does not occur. The Update Enumerate (UE) operation planned for this test and for eventual use in the 2020 Census incorporates the address frame update and enumeration activities. Integrating these activities into one operation is the second primary objective for the Census Bureau in this test. This type of operation is cost-effective and manageable only in such areas where special procedures are needed due to types of addresses and various geographic considerations. Note that this type of operation was used for enumeration at about one percent of addresses in the 2010 Census.

Address Frame Maintenance and Usage

Prior to production of Update Enumerate activities, the address frame will be reviewed and updated through In-Office Address Canvassing. For the 2010 Census, the address frame was reviewed and updated during Address Canvassing, which was a field operation conducted before the 2010 Census Update Enumerate operation. Update Enumerate will be the first operation to review and update the address frame in the field for the areas in the 2017 Census Test. This revised procedure is an innovation as compared to the 2010 Census.

Questionnaires and mailing materials will be printed using the updated address list from In-Office Address Canvassing. Materials will be mailed to all mailable addresses (determined through Coding Accuracy Support System certification) in the selected test site areas before the Update Enumerate operation commences. The mailing packages will provide both the 2017 Census Test Uniform Resource Locator (URL) and the phone number for Census Questionnaire Assistance (CQA). The package will also contain a paper questionnaire.

A further innovation for these UE areas is that a variety of means of achieving response will be used, as in previous census tests and in different types of areas. In particular, in addition to the materials sent to mailable addresses before the field operation begins, Internet response will be an option for all households in the test area. Self-response prior to enumeration is possible through the mail-back of a questionnaire (if received), response on the Internet, or response on the telephone through CQA. Generally, the materials will provide a Census ID for use in response, although it will also be possible for respondents to submit responses via Internet or CQA without an ID. Those households that have self-responded will be removed from the workload for the enumeration. Households that do not self-respond by the time of the household in-person visit in Update Enumerate will be enumerated at that time if a respondent is available.

Testing the feasibility of collecting tribal enrollment questions on the questionnaire is one of the primary objectives of this test. In order to collect data from other geographic locations and from a broader representation of American Indian or Alaska Native respondents for analysis of the tribal enrollment questions, a separate sample of 80,000 households will be drawn for a national self-response-only operation, oversampled for areas with relatively higher concentrations of people estimated to identify as American Indian or Alaska Native.

For the self-response-only sample, there will be no follow-up to obtain response from non-responding households. However, we will conduct a content reinterview (using an outbound telephone operation) to assess the validity of the tribal enrollment question. The sub-sample of 15,000 households for the content reinterview will be drawn from the sites and the national sample.

The Census Bureau has not done prior testing this decade in the type of geographic area that is included in the test sites. The areas selected for the 2017 Census Test differ from the generally more urban or suburban areas with a predominance of city-style addresses. The 2017 Census Test areas are sparser and contain a lower percentage of city-style addresses. The Census Bureau has traditionally used a methodology like that of the planned Update Enumerate for completing the census in these types of areas.

The complexity of all the overlapping listing, self-response, and enumeration operations and the necessity of multiple systems to provide updates for tracking progress in the field operation make the 2017 Census Test essential for planning for the 2020 Census. By working through all the operational and system development and then learning from the challenges that still arise during the operation, the Census Bureau will be better prepared to perform this complex operation in the 2020 Census. The geographic areas selected for the test may be less accessible or sparsely populated, in addition to having a low rate of mailable addresses. As such, these areas do not lend themselves to performing the traditional mailing and self-response enumeration methodology for the census. For areas that are known to require a personal visit during the census, there is cost containment from not visiting the area prior to the enumeration.

This test will incorporate a number of the automation and management innovations that have been tested this decade, where other enumeration methodologies were used. In particular, Internet is available as the primary response mode, UE field data collection operations will be automated, and Field Infrastructure will continue to be refined with automated work assignments and management overview. In addition, Census Questionnaire Assistance (CQA) will offer the option for completing the questionnaire on the telephone and will include the option for language assistance. Within CQA, Interactive Voice Recognition will be available to answer respondent questions and to route calls to agents, as necessary. Results may differ from those observed in prior tests, such as if there is limited internet connectivity.

Below we provide additional details about the specific operations that will be tested or refined in this test.

Operations

Update Enumerate (UE)

The 2017 Census Test will allow the Census Bureau to test the Update Enumerate operation, which combines listing methodologies of Address Canvassing with the enumeration methodologies from Nonresponse Followup. This operation occurs in geographic areas that:

• Do not have city-style addresses.

• Do not receive mail through city-style addresses.

• Receive mail at post office boxes.

• Have unique challenges associated with accessibility to the housing unit.

• Have been affected by natural disasters.

• Have high concentrations of seasonally vacant housing.

The following objectives are being tested for Update Enumerate:

• Integrating listing and enumeration operations and systems.

• Evaluating the impact on cost and quality of the contact strategy on enumerator productivity and efficiency in these types of areas.

• Testing continued refinements to the field data collection instrument for enumeration including such things as allowing collection of data from `other' address in-movers and whole household usual home elsewhere cases.

• Continuing enhancements to field operational procedures that are newly defined for the 2020 Census.

• Testing field supervisor to enumerator ratios in these types of areas.

• Testing refinements to alerts from operational control systems.

II. Method of Collection

The test will occur in two selected sites and using a national sample.

Test Sites

The test will take place on two American Indian areas—the Colville Indian Reservation and Off-Reservation Trust Land in Washington and the Standing Rock Reservation in North Dakota and South Dakota. Approximately 3,500 and 2,900 housing units, respectively, within the areas will be invited to participate.

Update Enumerate (UE)

Update Enumerate for the 2017 Census Test will test three of the components of the operation: Update Enumerate Production, Update Enumerate Followup, and Update Enumerate Reinterview, as described in more detail below. These are new components of the completely updated operational design for Update Enumerate. In addition to the field operation, the Census Bureau is testing mailing out an invitation package to housing units in the test site with a mailable address to generate self-response before the UE operation begins. If a household self-responds, the UE field staff person (enumerator) will not enumerate that house while listing the geographic area. This is a cost savings to Update Enumerate since the enumerator will not have to spend time enumerating self-responding households.

Update Enumerate Production

The UE enumerators visit specific geographic areas to identify every place where people could live or stay, comparing what they see on the ground to the existing census address list, and either verify or correct the address and location information. Much like Address Canvassing, enumerators classify each living quarter (LQ) as a housing unit or Group Quarter (GQ). If the LQ is classified as a GQ, no attempt is made to enumerate at the GQ within this test, since the plan for the 2020 Census is to have a unique operation enumerate GQs.

The enumerators will attempt to conduct an interview for each housing unit if there is no self-response. If someone answers the door, the enumerators will provide a Confidentiality Notice and ask about the address in order to verify or update the information, as appropriate. The enumerators will then ask if there are any additional LQs in the structure or on the property. If there are additional LQs, the enumerators will collect/update that information, as appropriate. The enumerator will then interview the respondent using the questionnaire on the mobile device.

If no one is home at a non-responding housing unit, the enumerator will leave a Notice of Visit inviting a respondent for each household to go online with an ID to complete the 2017 Census Test Questionnaire. The Notice of Visit will also include the phone number for Census Questionnaire Assistance if the respondent has any questions or would prefer to respond on the phone. The housing unit will be included in the Update Enumerate Followup until self-response is received.

Update Enumerate Followup

The UE operation will have a UE Followup component for those households that were not enumerated on the first visit and have not responded via the Internet or telephone. The UE Followup will use the same contact strategies and business rules as Nonresponse Followup. UE enumerators will conduct the operation using then Census Bureau provided listing and enumeration application on a Census Bureau provided mobile device.

Update Enumerate Reinterview

A sample of cases enumerated via Update Enumerate or Update Enumerate Followup will be selected for reinterview. The intention of this operation is to help pinpoint possible cases of enumerator falsification. Update Enumerate Reinterview will use the Census Bureau's enumeration software on mobile devices. We will also test centralized phone contacts of the reinterview cases before sending them to an enumerator in the field, providing potential cost savings.

Self-Response

A separate, nationally representative sample of 80,000 addresses will be drawn for a self-response-only operation, oversampled for areas with relatively higher concentrations of people estimated to identify as American Indian or Alaska Native. These addresses will receive mailed materials (letter, postcards and/or questionnaire) and can respond by Internet (either with or without a pre-assigned ID) or by returning a paper questionnaire or by telephone.

Households from both the test sites and the self-response sample areas will be eligible for the sample for content reinterview follow-up. This interview will be performed by telephone.

III. Data

OMB Control Number: 0607-XXXX.

Form Number(s): Paper and electronic questionnaires; numbers to be determined.

Type of Review: Regular submission.

Affected Public: Households/Individuals.

Estimated Number of Respondents

Self-Response: 35,000.

Update Enumerate Operations: 6,400.

Update Enumerate Reinterview: 634.

Content Reinterview: 9,000.

Total: 51,034.

Estimated Time per Response: 10 minutes.

Estimated Total Annual Burden Hours

Self-Response: 5,833.

Update Enumerate Operations: 1,067.

Update Enumerate Reinterview: 106.

Content Reinterview: 1,500.

Total: 8,506.

| Estimated number of responses | Estimated time per response (minutes) | Total respondent burden (minutes)
National Sample
Self-Response | 35,000 | 10 | 5,833
American Indian Reservation Sample
Update Enumerate Operations | 6,400 | 10 | 1,067
Update Enumerate Reinterview | 634 | 10 | 106
Content Reinterview | 9,000 | 10 | 1,500
Totals | 51,034 |  | 8,506

Estimated Total Annual Cost to Public: There are no costs to respondents other than their time to participate in this data collection.

Respondent's Obligation: Mandatory.

Legal Authority: Title 13 U.S.C. Sections 141 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 3, 2016.
Glenna Mickelson,
Management Analyst, Office of the Chief Information Officer.

[FR Doc. 2016-18722 Filed 8-5-16; 8:45 am]

BILLING CODE 3510-07-P